DEPARTMENT OF THE INTERIOR

National Park Service

National Capital Region; Notice/Request for Public Meeting and Public Comments—the Lighting of the National Christmas Tree and the Subsequent 29 Day Event

SUMMARY: The National Park Service is seeking public comments and suggestions on the planning of the 2009 Lighting of the National Christmas Tree and the subsequent 29 day event.

SUPPLEMENTARY INFORMATION: The National Park Service is seeking public comments and suggestions on the planning of the 2009 Lighting of the National Christmas Tree and the subsequent 29 day event, which opens on December 3, 2009, on the Ellipse (President's Park), south of the White House. In order to facilitate this process the National Park Service will hold a meeting at 9:00 a.m. on November 12, 2009, in Room 234 of the National Capital Region Headquarters Building, at 1100 Ohio Drive, SW., Washington, DC (East Potomac Park). Persons who would like to comment at the meeting should notify the National Park Service by November 6, 2009, by calling the White House Visitor Center weekdays between 9 a.m., and 4 p.m., at (202) 208-1631.

In addition public comments and suggestions on the planning of the 2009 Lighting of the National Christmas Tree and the subsequent 29 day event may be submitted in writing. Written comments may be sent to the Park Manager, White House Visitor Center 1100 Ohio Drive, SW., Washington, DC 20242, and will be accepted until November 12, 2009.

DATES: The meeting will be held on November 12, 2009. Written comments will be accepted until November 12, 2009.

ADDRESSES: The meeting will be held at 9:00 a.m. on November 12, 2009, in room 234 of the National Capital Region Headquarters Building, at 1100 Ohio Drive, SW., Washington, DC (East Potomac Park). Written comments may be sent to the Park Manager, White House Visitor Center, 1100 Ohio Drive, SW., Washington, DC 20242. Due to delays in mail delivery, it is recommended that comments be provided by telefax at 202-208-1643 or by e-mail to Scott_Tucker@nps.gov. Comments may also be delivered by messenger to the White House Visitor Center at 1450 Pennsylvania Avenue, NW. in Washington, DC.

FOR FURTHER INFORMATION CONTACT: Scott Tucker at the White House Visitor Center weekdays between 9 a.m., and 4 p.m., at (202) 208-1631.

Dated: October 21, 2009.
John Stanwich,
Deputy National Park Service Liaison to the White House.

[FR Doc. E9-26170 Filed 10-29-09; 8:45 am]

BILLING CODE P